DEPARTMENT OF DEFENSE

GENERAL SERVICES ADMINISTRATION

NATIONAL AERONAUTICS AND SPACE ADMINISTRATION

[OMB Control No. 9000-0144; Docket 2017-0053; Sequence 10]

Submission for OMB Review; Payment by Electronic Funds Transfer

AGENCY: Department of Defense (DOD), General Services Administration (GSA), and National Aeronautics and Space Administration (NASA).

ACTION: Notice of request for public comments regarding a revision and extension to an existing OMB information collection.

SUMMARY: Under the provisions of the Paperwork Reduction Act, the Regulatory Secretariat Division (MVCB) will be submitting to the Office of Management and Budget (OMB) a request to review and approve an extension of a currently approved information collection requirement concerning payment by electronic funds transfer. A notice was published in the Federal Register on September 22, 2017. No comments were received.

DATES: Submit comments on or before January 5, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov.

Submit comments via the Federal eRulemaking portal by searching the OMB control number 9000-0144. Select the link “Comment Now” that corresponds with “Information Collection 9000-0144, Payment by Electronic Funds Transfer”. Follow the instructions provided on the screen. Please include your name, company name (if any), and “Information Collection 9000-0144, Payment by Electronic Funds Transfer”, on your attached document.

• Mail: General Services Administration, Regulatory Secretariat Division (MVCB), 1800 F Street NW., Washington, DC 20405. ATTN: Ms. Mandell/IC 9000-0144, Payment by Electronic Funds Transfer.

Instructions: Please submit comments only and cite Information Collection 9000-0144, Payment by Electronic Funds Transfer, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, via telephone 202-969-7207 or via email to zenaida.delgado@gsa.gov.

SUPPLEMENTARY INFORMATION:

A. Purpose

The FAR requires certain information to be provided by contractors which would enable the Government to make payments under the contract by electronic funds transfer (EFT). The information necessary to make the EFT transaction is specified in clause 52.232-33, Payment by Electronic Funds Transfer—System for Award Management, which the contractor is required to provide prior to award, and clause 52.232-34, Payment by Electronic Funds Transfer—Other than System for Award Management, which requires EFT information to be provided as specified by the agency to enable payment by EFT. This collection of information is mostly imposed on contractors upon award of each contract. Less frequent collection would not facilitate contract payment by EFT as the standard method of payment under Government contracts.

DoD, GSA and NASA analyzed the FY 2016 data from the Federal Procurement Data System (FPDS) to develop the estimated burden hours for this information collection. The burden was adjusted to reflect that the information required by the clause at 52.232-33, Payment by Electronic Funds Transfer— System for Award Management, is already covered by OMB Control Number 9000-0159, System for Award Management Registration (SAM).

B. Annual Reporting Burden

Respondents: 3,761.

Responses per Respondent: 1.

Annual Responses: 3,761.

Hours per Response: 0.5.

Total Burden Hours: 1,881.

C. Public Comments

Public comments are particularly invited on: Whether this collection of information is necessary for the proper performance of functions of the FAR, including whether the information will have practical utility; the accuracy of the estimate of the burden of the information collection; ways to enhance the quality, utility, and clarity of the information to be collected; and ways to minimize the burden of the information collection on respondents, including the use of automated collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0144, Payment by Electronic Funds Transfer, in all correspondence.

Dated: December 1, 2017.
Lorin S. Curit,
Director, Federal Acquisition Policy Division, Office of Government-wide Acquisition Policy, Office of Acquisition Policy, Office of Government-wide Policy.

[FR Doc. 2017-26255 Filed 12-5-17; 8:45 am]

BILLING CODE 6820-EP-P